DEPARTMENT OF HEALTH AND HUMAN SERVICES

National Institutes of Health

Collaboration Opportunity To Develop a Vaccine Against Nicotine or Arecoline

AGENCY: National Institutes of Health, HHS.

ACTION: Notice.

SUMMARY: The Cancer Prevention Program of the National Cancer Institute (NCI) is seeking a partner in the private sector to develop a vaccine directed against nicotine or a related molecule called arecoline, with the goal of reducing or eliminating the craving of such substance(s) in smokers or betel nut users.

FOR FURTHER INFORMATION CONTACT: Inquiries relating to this collaboration opportunity should be directed to: Michael Pollack, Ph.D., Supervisory Technology Transfer Manager, NCI Technology Transfer Center, 9609 Medical Center Drive, Room 1E530, Rockville, MD 20850 (for overnight mail) or Bethesda, MD 20892 (for regular mail), Telephone: (240) 276-5530; Facsimile: (240) 276-5504; Email: pollackm@mail.nih.gov.

SUPPLEMENTARY INFORMATION: The NCI has expertise in the latest technology of vaccine development and agents to enhance immune responses to vaccines, and NCI has the ability to participate in vaccine preclinical and clinical studies. The NCI is seeking a partner with expertise in this area of anti-smoking research and development.

Dated: August 11, 2023.
Richard U. Rodriguez,
Associate Director, Technology Transfer Center, National Cancer Institute.

[FR Doc. 2023-17672 Filed 8-16-23; 8:45 am]

BILLING CODE 4140-01-P